DEPARTMENT OF ENERGY

Federal Energy Regulatory Commission

[Project Nos. 1759-036, 2074-007, 2072-008, 11830-000, 2073-008, 11831-000, 2131-020, and 1980-009—Michigan/Wisconsin]

Wisconsin Electric Power Company; Notice of Availability of Environmental Assessment

November 9, 2000.

In accordance with the National Environmental Policy Act of 1969 and the Federal Energy Regulatory Commission's (Commission) regulations, 18 CFR Part 380 (Order No. 486, 52 FR 47897), the Office of Energy Projects has reviewed the applications for new and subsequent licenses for the existing Way Dam, Hemlock Falls, Lower Paint, Peavy Falls, Michigamme Falls, Twin Falls, Kingsford, and Big Quinnesec Falls Projects, collectively referred to as the Upper Menominee River Basin Projects, located on the Menominee River and its tributaries, the Paint and Michigamme Rivers, in Dickinson and Iron Counties, Michigan, and Florence and Marinette Counties, Wisconsin, and has prepared an Environmental Assessment (EA) for the projects. In the EA, the Commission staff has analyzed the potential environmental effects of the projects and has concluded that approval of the projects, with appropriate environmental measures, would not constitute a major Federal action significantly affecting the quality of the human environment.

Copies of the EA are available for review in the Commission's Public Reference Branch, Room 2A, located at 888 First Street, NE, Washington, DC 20426. The EA may also be viewed on the Internet at http://www.ferc.fed.us/online/rims.htm. Please call (202) 208-2222 for assistance.

Any comments should be filed by December 1, 2000, and should be addressed to David P. Boergers, Secretary, Federal Energy Regulatory Commission, 888 First Street, NE, Washington, DC 20426. Please affix Project Nos. 1759-036, 2074-007, 2072-008, 11830-000, 2073-008, 11831-000, 2131-020, and 1980-009 to all comments. Comments and protests may be filed electronically via the internet in lieu of paper. See, 18 CFR 385.2001(a)(1)(iii) and the instructions on the Commission's web site at ­ http://www.ferc.fed.us/efi/doorbell.htm.

For further information, please contact Patti Leppert at (202) 219-2767.

Linwood A. Watson, Jr.,
Acting Secretary.

[FR Doc. 00-29348 Filed 11-15-00; 8:45 am]

BILLING CODE 6717-01-M